POSTAL SERVICE

Board of Governors; Sunshine Act Meeting

FEDERAL REGISTER CITATION OF PREVIOUS ANNOUNCEMENT: 84 FR 58182

PREVIOUSLY ANNOUNCED TIME AND DATE OF THE MEETING: Wednesday, November 13, 2019, at 10:30 a.m.; and Thursday, November 14, 2019, at 9 a.m.

PLACE: Washington, DC, at U.S. Postal Service Headquarters, 475 L'Enfant Plaza, SW, in the Benjamin Franklin Room.

STATUS: Wednesday, November 13, 2019, at 10:30 a.m.—Closed. Thursday, November 14, 2019, at 9 a.m.—Open.

CHANGES IN THE MEETING: Open session agenda items were revised.

REVISED MATTERS TO BE CONSIDERED:

Thursday, November 14, 2019, at 9 a.m. (Open)

1. Remarks of the Chairman of the Board of Governors.

2. Remarks of the Postmaster General and CEO.

3. Approval of Minutes of Previous Meetings.

4. Committee Reports.

5. Financial Matters, including FY2019 10K and Financial Statements, Annual Reports to Congress and Comprehensive Statement, and Five-Year Strategic Plan.

6. FY2020 Integrated Financial Plan.

7. FY2021 Congressional Reimbursement Request.

8. Quarterly Service Performance Request.

9. Approval of Tentative Agenda for February Meetings.

10. Board Leadership.

A public comment period will begin immediately following the adjournment of the open session on November 14, 2019. During the public comment period, which shall not exceed 30 minutes, members of the public may comment on any item or subject listed on the agenda for the open session above. Registration of speakers at the public comment period is required. Speakers may register online at https://www.surveymonkey.com/r/BOG-11-14-19. Onsite registration will be available until thirty minutes before the meeting starts. No more than three minutes shall be allotted to each speaker. The time allotted to each speaker will be determined after registration closes. Participation in the public comment period is governed by 39 CFR 232.1(n).

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2019-25000 Filed 11-14-19; 11:15 am]

BILLING CODE 7710-12-P